DEPARTMENT OF ENERGY

Federal Energy Regulatory Commission

[Docket No. ER01-453-000, et al.]

Nevada Power Company, et al.; Electric Rate and Corporate Regulation Filings

November 20, 2000.

Take notice that the following filings have been made with the Commission:

1. Nevada Power Company

[Docket No. ER01-453-000]

Take notice that on November 14, 2000, Nevada Power Company tendered for filing notification of withdrawal of membership in the Western Regional Transmission Association effective January 1, 2001 in the above referenced docket.

Comment date: December 5, 2000, in accordance with Standard Paragraph E at the end of this notice.

2. Solar Turbines Incorporated and STI Capital Company

[Docket Nos. EC01-23-000 and ER01-413-000]

Take notice that on November 9, 2000, Solar Turbines Incorporated and STI Capital Company, both of 2200 Pacific Coast Highway, San Diego, CA 92101 (Applicants), filed with the Federal Energy Regulatory Commission (Commission) an Application seeking authorization to transfer jurisdictional assets pursuant to Sections 203 and 205 of the Federal Power Act and the Part 33 of the Commission's Regulations.

The Application seeks authorization for Solar to Transfer to STI any jurisdictional interconnection facilities, Solar's market based rate schedule and any wholesale power agreements executed pursuant to that rate schedule.

Comment date: November 30, 2000, in accordance with Standard Paragraph E at the end of this notice.

3. GPU, Inc., GPU International, Inc. and MEP Investments, LLC

[Docket No. EC01-24-000]

Take notice that on November 13, 2000, GPU, Inc. (GPU), GPU International, Inc. (GPUI), and MEP Investments, LLC (MEP) filed a Joint Application pursuant to Section 203 of the Federal Power Act and Part 33 of the Commission's regulations requesting authorization and approval of the sale by GPU and the purchase by MEP of the stock of GPUI.

Comment date: December 4, 2000, in accordance with Standard Paragraph E at the end of this notice.

4. The AES Corporation and IPALCO Enterprises, Inc.

[Docket No. EC01-25-000]

Take notice that on November 14, 2000, The AES Corporation (AES) and IPALCO Enterprises, Inc. (AES) (collectively, Applicants) filed with the Federal Energy Regulatory Commission an application pursuant to section 203 of the Federal Power Act requesting authorization for AES to acquire IPALCO.

Applicants state that copies of this filing have been served on the Indiana Utility Regulatory Commission and the Illinois Commerce Commission.

Comment date: January 16, 2001, in accordance with Standard Paragraph E at the end of this notice.

5. Baconton Power LLC

[Docket Nos. EC01-26-000 and ER00-2398-002]

Take notice that on November 14, 2000, Baconton Power LLC (Baconton) submitted for filing an application under section 203 of the Federal Power Act for approval of the indirect transfer of control over Baconton's jurisdictional transmission facilities and paper facilities in order to change the respective ownership interests of Baconton's parent holding companies from 85 percent held by SOWEGA Energy Resources LLC (SER) and 15 percent held by Tejas Power Generation, L.L.P. (Tejas Power) to 65 percent held by SER and 35 percent held by Tejas Power. Baconton also submits a notice of change of status with respect to its market-based rate tariff authority granted in Docket No. ER00-2398-000.

Comment date: December 5, 2000, in accordance with Standard Paragraph E at the end of this notice.

6. City of Vernon, California

[Docket No. EL00-105-001]

Take notice that on November 9, 2000, the City of Vernon, California (Vernon) tendered for filing, in compliance with the Commission's October 27, 2000 Order on Proposed Transmission Revenue Requirement, 93 FERC ¶61,103: (1) a revised Transmission Revenue Requirement (TRR) for purposes of Vernon's becoming a Participating Transmission Owner as of January 1, 2001 under the California Independent System Operator Corporation's FERC Electric Tariff, and (2) a Transmission Owner Tariff, applicable to its activities as a PTO.

Vernon states that copies of this filing have been served on each person designated on the official service list compiled by the Secretary in these proceedings.

Comment date: December 8, 2000, in accordance with Standard Paragraph E at the end of this notice.

7. Dominion Nuclear Marketing III, L.L.C.

[Docket No. ER00-3746-002]

Take notice that on November 14, 2000, Dominion Nuclear Marketing III, L.L.C., tendered for filing its proposed FERC Market-Based Sales Tariff and requested certain waivers of the Commission's Regulations. On October 31, 2000, at the request of the Commission's Staff, Dominion Nuclear Marketing III, L.L.C., resubmitted its FERC Market-Based Sales Tariff to assure compliance with the Commission's policy regarding the provision of ancillary services at market-based rates and also resubmitted its Code of Conduct for Officers and Employees of Dominion Nuclear Marketing III, L.L.C., to assure compliance with the Commission's pagination guidelines. Also as part of Dominion Nuclear Marketing III, L.L.C.'s filing, the issue date of its tariff sheets was changed to October 31, 2000. In its October 31st filing Dominion Nuclear Marketing III, L.L.C. was inadvertently identified as Dominion Nuclear Marketing III, Inc., rather than Dominion Nuclear Marketing III, L.L.C. On November 14, 2000, Dominion Nuclear Marketing III, L.L.C., made a filing for the sole purpose of identifying itself by its correct name.

Comment date: December 5, 2000, in accordance with Standard Paragraph E at the end of this notice.

8. San Diego Gas & Electric Company

[Docket No. ER01-290-001]

Take notice that on November 14, 2000, San Diego Gas & Electric Company (SDG&E), tendered for filing a replacement Sheet No. 4 for the unexecuted Service Agreement between SDG&E and the City of Escondido (the City) for service under SDG&E Open Access Distribution Tariff (OADT). SDG&E states that this replacement sheet clarifies that either party may terminate the Service Agreement on 60 days advance written notice.

SDG&E requests that the Service Agreement, which was filed on October 31, 2000 and this replacement errata Sheet No. 4 be made effective on January 1, 2001 to assure that service under the OADT is available to the City on this date, the date on which the existing Power Sale Agreement between SDG&E and the City terminates.

Copies of this filing have been served upon the California Public Utilities Commission and the City.

Comment date: December 5, 2000, in accordance with Standard Paragraph E at the end of this notice.

9. Pacific Gas and Electric Company

[Docket No. ER00-3214-001]

Take notice that on November 13, 2000, Pacific Gas and Electric Company (PG&E), tendered for filing a letter Agreement dated November 2, 2000, which further clarifies the Sale of Additional Short Term Firm Transmission Service (STFTS) Letter Agreement dated June 2, 2000, portion of the Northern California Power Agency (NCPA) Interconnection Agreement filing in FERC Docket No. ER00-3214-000. The November 2 Letter Agreement, clarifying the STFTS Letter Agreement, among NCPA, PG&E and the CAISO is intended to resolve the concerns of the CAISO and permit the acceptance of the filing in FERC Docket No. ER00-3214-000.

Copies of this filing were served upon NCPA, the California Independent System Operation Corporation, the California Power Exchange Corporation and the California Public Utilities Commission.

Comment date: December 4, 2000, in accordance with Standard Paragraph E at the end of this notice.

10. PJM Interconnection, L.L.C.

[Docket No. ER00-3513-001]

Take notice that on November 9, 2000, pursuant to the Commission's Order in PJM Interconnection, L.L.C., 93 FERC ¶ 61,061 (2000), PJM Interconnection, L.L.C. (PJM), tendered for filing (1) a redesignated First Revised Sheet No. 144A under PJM's FERC Electric Tariff, Third Revised Volume No. 1; and (2) a revised Amended and Restated Operating Agreement of PJM Interconnection, L.L.C. (Operating Agreement) to conform to the requirements of Designation of Electric Rate Schedule Sheets, Order No. 614, III FERC Stats. & Regs., Regs. Preambles ¶ 31,096 (2000).

Copies of this filing were served via email upon the PJM members, and by hard copy to the state commissions within the PJM control area.

Comment date: November 30, 2000, in accordance with Standard Paragraph E at the end of this notice.

11. Allegheny Energy Service Corporation on behalf of Allegheny Energy Supply Company, LLC

[Docket No. ER01-437-000]

Take notice that on December 14, 2000, Allegheny Energy Service Corporation on behalf of Allegheny Energy Supply Company, LLC (“Allegheny Energy Supply”) filed Service Agreement No. 101 to add one (1) new Customer to the Market Rate Tariff under which Allegheny Energy Supply offers generation services.

Allegheny Energy Supply proposes to make service available as of November 13, 2000 to UGI Utilities Inc.

Copies of the filing have been provided to the Public Utilities Commission of Ohio, the Pennsylvania Public Utility Commission, the Maryland Public Service Commission, the Virginia State Corporation Commission, the West Virginia Public Service Commission, and all parties of record.

Comment date: December 5, 2000, in accordance with Standard Paragraph E at the end of this notice.

12. Louisville Gas and Electric Company/Kentucky Utilities Company

[Docket No. ER01-438-000]

Take notice that on November 14, 2000, Louisville Gas and Electric Company (LG&E)/Kentucky Utilities (KU) (hereinafter Companies), tendered for filing an executed unilateral Service Sales Agreement between Companies and Duke Energy Trading and Marketing, LLC under the Companies' Rate Schedule MBSS.

Comment date: December 5, 2000, in accordance with Standard Paragraph E at the end of this notice.

13. Commonwealth Edison Company

[Docket No. ER01-439-000]

Take notice that on November 14, 2000, Commonwealth Edison Company (ComEd), tendered for filing an unexecuted service agreement for Hoosier Energy Rural Electric Cooperative, Inc. (Hoosier) under ComEd's FERC Electric Market Based-Rate Schedule for power sales.

ComEd requests and effective date of October 16, 2000, for the service agreement and accordingly seeks waiver of the Commission's notice requirements.

Copies of this filing were served on Hoosier.

Comment date: December 5, 2000, in accordance with Standard Paragraph E at the end of this notice.

14. SOWEGA Power LLC and Baconton Power LLC

[Docket No. ER01-440-000]

Take notice that on November 14, 2000, SOWEGA Power LLC and Baconton Power LLC, tendered for filing a restated Common Bus Ownership Agreement, revising SOWEGA Rate Schedule FERC No. 3 and Baconton Rate Schedule FERC No. 1. The revised agreement is designated as SOWEGA First Revised Rate Schedule FERC No. 3 and as Baconton First Revised Rate Schedule FERC No. 1.

Comment date: December 5, 2000, in accordance with Standard Paragraph E at the end of this notice.

15. Xcel Energy Services

[Docket No. ER01-441-000]

Take notice that on November 14, 2000, Xcel Energy Services on behalf of Public Service Company of Colorado tendered for filing an amended Power Supply Agreement with Yampa Valley Electric Association, Inc. (Yampa), as contained in Public Service's Rate Schedule FERC No. 54.

Public Service requests an effective date of January 1, 2000 for this filing. The amended agreement is pursuant to a negotiated settlement between Public Service and Yampa in the merger between NSP and NCE which formed Xcel Energy.

Comment date: December 5, 2000, in accordance with Standard Paragraph E at the end of this notice.

16. Puget Sound Energy, Inc.

[Docket No. ER01-442-000]

Take notice that on November 14, 2000, Puget Sound Energy, Inc., as Transmission Provider, tendered for filing a Service Agreement for Firm Point-To-Point Transmission Service and a Service Agreement for Non-Firm Point-To-Point Transmission Service with Public Utility District No. 1 of Chelan County (Chelan), as Transmission Customer.

A copy of the filing was served upon Chelan.

Comment date: December 5, 2000, in accordance with Standard Paragraph E at the end of this notice.

17. Allegheny Energy Service Corporation on behalf of Allegheny Energy Supply Company, LLC

[Docket No. ER01-443-000]

Take notice that on November 14, 2000, Allegheny Energy Service Corporation on behalf of Allegheny Energy Supply Company, LLC (Allegheny Energy Supply), tendered for filing Service Agreement No. 100 to add one (1) new Customer to the Market Rate Tariff under which Allegheny Energy Supply offers generation services.

Allegheny Energy Supply proposes to make service available as of November 13, 2000 to UGI Development Company.

Copies of the filing have been provided to the Public Utilities Commission of Ohio, the Pennsylvania Public Utility Commission, the Maryland Public Service Commission, the Virginia State Corporation Commission, the West Virginia Public Service Commission, and all parties of record.

Comment date: December 5, 2000, in accordance with Standard Paragraph E at the end of this notice.

18. Puget Sound Energy, Inc.

[Docket No. ER01-445-000]

Take notice that on November 14, 2000, Puget Sound Energy, Inc., as Transmission Provider, tendered for filing a Service Agreement for Short-Term Firm Point-To-Point Transmission Service with the United States of America Department of Energy acting by and through the Bonneville Power Administration (Bonneville), as Transmission Customer.

A copy of the filing was served upon Bonneville.

Comment date: December 5, 2000, in accordance with Standard Paragraph E at the end of this notice.

19. Green Mountain Power Corporation

[Docket No. ER01-448-000]

Take notice that on November 14, 2000, Green Mountain Power Corporation (GMP), tendered for filing a service agreement for Village of Jacksonville to take service under its Network Integration Transmission Service tariff.

Copies of this filing have been served on each of the affected parties, the Vermont Public Service Board and the Vermont Department of Public Service.

Comment date: December 5, 2000, in accordance with Standard Paragraph E at the end of this notice.

20. Green Mountain Power Corporation

[Docket No. ER01-446-000]

Take notice that on November 14, 2000, Green Mountain Power Corporation (GMP), tendered for filing a service agreement for Washington Electric Cooperative to take service under its Network Integration Transmission Service tariff.

Copies of this filing have been served on each of the affected parties, the Vermont Public Service Board and the Vermont Department of Public Service.

Comment date: December 5, 2000, in accordance with Standard Paragraph E at the end of this notice.

21. Green Mountain Power Corporation

[Docket No. ER01-449-000]

Take notice that on November 14, 2000, Green Mountain Power Corporation (GMP), tendered for filing a service agreement for Village of Northfield Electric Department to take service under its Network Integration Transmission Service tariff.

Copies of this filing have been served on each of the affected parties, the Vermont Public Service Board and the Vermont Department of Public Service.

Comment date: December 5, 2000, in accordance with Standard Paragraph E at the end of this notice.

22. Green Mountain Power Corporation

[Docket No. ER01-447-000]

Take notice that on November 14, 2000, Green Mountain Power Corporation (GMP), tendered for filing a service agreement for Readsboro Electric Light Department to take service under its Network Integration Transmission Service tariff.

Copies of this filing have been served on each of the affected parties, the Vermont Public Service Board and the Vermont Department of Public Service.

Comment date: December 5, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-30197 Filed 11-27-00; 8:45 am]

BILLING CODE 6717-01-P